DEPARTMENT OF ENERGY

Federal Energy Regulatory Commission

[Docket No. RP01-613-001]

Northwest Pipeline Corporation; Notice of Proposed Changes in FERC Gas Tariff

October 16, 2001.

Take notice that on October 10, 2001, Northwest Pipeline Corporation (Northwest) tendered for filing as part of its FERC Gas Tariff, Third Revised Volume No. 1, the following tariff sheets, to be effective October 26, 2001:

Substitute Second Revised Sheet No. 278-C

Substitute Original Sheet No. 278-D

Northwest states that the purpose of this filing is to clarify that under the proposal submitted by Northwest in this proceeding on September 27, 2001, a shipper that wishes to exercise a right of first refusal will not be required to match a negotiated rate bid that exceeds Northwest's maximum base tariff rate or a five-year term in order to retain its capacity.

Northwest states that it has served a copy of this filing upon all parties on the service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-26502 Filed 10-22-01; 8:45 am]

BILLING CODE 6717-01-P